DEPARTMENT OF COMMERCE

National Oceanic and Atmospheric Administration

RIN 0648-XC514

New England Fishery Management Council; Public Meeting

AGENCY: National Marine Fisheries Service (NMFS), National Oceanic and Atmospheric Administration (NOAA), Commerce.

ACTION: Notice; public meeting.

SUMMARY: The New England Fishery Management Council's (Council) VMS/Enforcement Committee and Advisory Panel will meet to consider actions affecting New England fisheries in the exclusive economic zone (EEZ).

DATES: The meeting will be held on Tuesday, March 12, 2013 at 9:30 a.m.

ADDRESSES:

Meeting address: The meeting will be held at the Fairfield Inn and Suites, 185 MacArthur Drive, New Bedford, MA 02740; telephone: (774) 634-2000; fax: (774) 634-2001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The VMS/Enforcement Committee and Advisory Panel will meet to discuss Draft NOAA priorities for 2013. Also on the agenda will be the discussion of the role of the Multispecies sector managers in the event a sector vessel receives a violation and joint liability of sectors. They will discuss issues regarding the enforcement of small, seasonal area closures. They will also discuss marking requirements for lobster trawls, stability issues, and unintentional conflicts with mobile gear. The committee and panel will also discuss whether vessels should be allowed to carry two different mesh nets for different fisheries. The committee will meet in closed session to discuss advisory panel membership. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: February 14, 2013.
Tracey L. Thompson,
Acting Deputy Director, Office of Sustainable Fisheries, National Marine Fisheries Service.

[FR Doc. 2013-03830 Filed 2-19-13; 8:45 am]

BILLING CODE 3510-22-P